DEPARTMENT OF THE TREASURY

Submission for OMB Review; Comment Request

June 13, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before July 20, 2006 to be assured of consideration.

Federal Consulting Group

OMB Number: 1505-0164.

Type of Review: Extension.

Title: Reporting and Procedures Regulations 31 CFR Part 501.

Description: Submissions will provide the U.S. Government with information to be used in enforcing various economic sanctions programs administered by OFAC less than 31 CFR chapter V.

Respondents: Individuals and households; Business or other-for-profit; Not-for-profit institutions; Federal Government.

Estimated Total Reporting Burden: 26,250 hours.

Clearance Officer: Office of Foreign Assets Control, (202) 622-2500, Department of the Treasury, 1500 Pennsylvania Avenue, NW., Annex-2nd Floor, Washington, DC 20220.

OMB Reviewer: Alexander T. Hunt, (202) 395-7316, Office of Management and Budget, Room 10235, New Executive Office Building, Washington, DC 20503.

Michael A. Robinson,
Treasury PRA Clearance Officer.

[FR Doc. E6-9609 Filed 6-19-06; 8:45 am]

BILLING CODE 4810-25-P